DEPARTMENT OF THE INTERIOR

National Park Service

National Register of Historic Places; Notification of Pending Nominations and Related Actions

Nominations for the following properties being considered for listing or related actions in the National Register were received by the National Park Service before January 8, 2005. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by February 15, 2005.

Carol D. Shull,
Keeper of the National Register of Historic Places.

ARKANSAS

Conway County

Mellettown United Methodist Church, (Mixed Masonry Buildings of Silas Owens, Sr. MPS) 274 Mallett Town Rd., Mallet Town, 05000041.

Faulkner County

Church of Christ, (Mixed Masonry Buildings of Silas Owens, Sr. MPS) AR 310, Guy, 05000040.

Hooten, E.E., House, (Mixed Masonry Buildings of Silas Owens, Sr. MPS) 400 AR 25 N, Guy, 05000039.

Lee Service Station, (Mixed Masonry Buildings of Silas Owens, Sr. MPS) 28 South Broadway, Damascus, 05000044.

Merritt, S.D., House, (Mixed Masonry Buildings of Silas Owens, Sr. MPS) 45 AR 25 N, Greenbrier, 05000038.

Owens, Silas, Sr., House, (Mixed Masonry Buildings of Silas Owens, Sr. MPS) 157 Solomon Grove Rd., Twin Groves, 05000045.

Sellers House, (Mixed Masonry Buildings of Silas Owens, Sr. MPS) 89 Acklin Gap Rd., Conway, 05000042.

Spears House, (Mixed Masonry Buildings of Silas Owens, Sr. MPS) 1235 AR 65 N, Greenbrier, 05000043.

Washington County

Morton, Mack, Barn, 11516 Appleby Rd., Appleby, 05000047.

CALIFORNIA

Los Angeles County

Petitfils—Boos House, 545 Plymouth Blvd., Los Angeles, 05000049.

Storrier—Stearns Japanese Garden, 270 Arlington Dr., Pasadena, 05000050.

Textile Center Building, 315 E. Eighth St., Los Angeles, 05000048.

DISTRICT OF COLUMBIA

District of Columbia

Woodward and Lothrop Service Warehouse, 131 M St. NE., Washington, 05000046.

FLORIDA

Broward County

Hammerstein House, 1520 Polk St., Hollywood, 05000051.

Hollywood Garden Club, 2940 Hollywood Blvd., Hollywood, 05000052.

GEORGIA

Bibb County

League, Ellamae Ellis, House, 1790 Waverland Dr., Macon, 05000053.

MAINE

Cumberland County

Caswell Public Library (Former), (Maine Public Libraries MPS) 42 Main St., Harrison, 05000056.

Dyke Mountain Annex, 319 Dyke Mountain Rd., Sebago, 05000059.

Payson House at Thornhurst, 48 Thornhurst Rd., Falmouth, 05000057.

Kennebec County

Heald House, 19 West St., Waterville, 05000058.

Oxford County

Otisfield Town House (Former), 53 Bell Hill Rd., Otisfield, 05000055.

York County

Parsons—Piper—Lord—Roy Farm, 309 Cramm Rd., Parsonsfield, 05000054.

NORTH DAKOTA

Ward County

Our Savior's Scandinavian Lutheran Church, 1 mi. N of NM 50 and 0.25 mi. W of Ward Cty Hwy 1, Coulee, 05000060.

PENNSYLVANIA

Fayette County

Summit Hotel, 101 Skyline Dr., North Union, 05000062.

Northampton County

Bethlehem Silk Mill, 238 W. Goepp St., Bethlehem, 05000065.

Philadelphia County

Plaza Apartments, 1719-1725 N 33rd Sts., 3226-3228 Clifford St., Philadelphia, 05000063.

St. Anthony Hall House, 3637 Locust Walk, University of Pennsylvania, Philadelphia, 05000064.

PUERTO RICO

San Juan Municipality

Edificio Patio Espanol, 153 Cruz St., San Juan, 05000061.

WASHINGTON

Mason County

taba das, Address Restricted, Potlatch, 05000066.

[FR Doc. 05-1662 Filed 1-28-05; 8:45 am]

BILLING CODE 4312-51-P